FEDERAL MARITIME COMMISSION

46 CFR Part 502

[Docket No. 16-08]

RIN 3072-AC64

Rules of Practice and Procedure; Presentation of Evidence in Commission Proceedings

AGENCY: Federal Maritime Commission.

ACTION: Final rule, delay of effective date.

SUMMARY: The Federal Maritime Commission is temporarily delaying the effective date of its December 22, 2016 final rule reorganizing several subparts of its Rules of Practice and Procedure and revising its rules regarding presentation of evidence in Commission proceedings.

DATES: Effective January 26, 2017, the effective date for the final rule published December 22, 2016, at 81 FR 93831, and corrected on January 3, 2017, at 82 FR 46, is delayed until April 3, 2017.

FOR FURTHER INFORMATION CONTACT: Rachel E. Dickon, Assistant Secretary, Federal Maritime Commission, 800 North Capitol Street NW., Washington, DC 20573-0001, Phone: (202) 523-5725, Email: secretary@fmc.gov.

SUPPLEMENTARY INFORMATION: The Commission has determined to delay the effective date of the final rule regarding its Rules of Practice and Procedure until 60 days from the date of this publication.

By the Commission.
Rachel E. Dickon,
Assistant Secretary.

[FR Doc. 2017-02072 Filed 1-26-17; 4:15 pm]

BILLING CODE 6731-AA-P